DEPARTMENT OF HOUSING AND URBAN DEVELOPMENT

[Docket No. FR-5603-N-48]

Notice of Proposed Information Collection for Public Comment: Home Equity Conversion Mortgage Counseling Client Survey

AGENCY: Office of the Chief Information Officer, HUD.

ACTION: Notice.

SUMMARY: The proposed information collection requirement described below will be submitted to the Office of Management and Budget (OMB) for review, as required by the Paperwork Reduction Act. The Department is soliciting public comments on the subject proposal.

The HECM Counseling Session Evaluation is sent to counseling recipients as part of HUD's performance review of a HECM counseling agency. It is used by HUD as a performance tool to obtain information directly from counseling recipients on their experience with the counseling agency under review by HUD.

DATES: Comments Due Date: August 1, 2012.

ADDRESSES: Interested persons are invited to submit comments regarding this proposal. Comments should refer to the proposal by name and/or OMB Control Number and should be sent to: Reports Liaison Officer, Department of Housing and Urban Development, 451 7th Street SW., Washington, DC 20410, Room 9120 or the number for the Federal Information Relay Service (1-800-877-8339).

FOR FURTHER INFORMATION CONTACT: Colette Pollard, Reports Management Officer, QDAM, Department of Housing and Urban Development, 451 Seventh Street SW., Washington, DC 20410; email Colette Pollard at Colette. Pollard@hud.gov or telephone (202) 402-3400. This is not a toll-free number. Copies of available documents submitted to OMB may be obtained from Ms. Pollard. (This is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Home Equity Conversion Mortgage Counseling Client Survey Conversion Mortgage Counseling Client Survey.

OMB Control Number, if applicable: 2502-0585.

Description of the need for the information and proposed use: The HECM Counseling Session Evaluation is sent to counseling recipients as part of HUD's performance review of a HECM counseling agency. It is used by HUD as a performance tool to obtain information directly from counseling recipients on their experience with the counseling agency under review by HUD.

Agency form numbers, if applicable: HUD 92911.

Estimation of the total numbers of hours needed to prepare the information collection including number of respondents, frequency of response, and hours of response: The estimated total number of hours needed to prepare the information collection is 50, the number of respondents is 300 generating approximately 300 annual responses; the frequency of response is on occasion; and the estimated time needed to prepare the response varies from 10 minutes to 20 minutes.

Status of the proposed information collection: This is an extension of a previously approved information collection.

Authority: The Paperwork Reduction Act of 1995, 44 U.S.C., Chapter 35, as amended.

Dated: June 26, 2012.
Colette Pollard,
Departmental Reports Management Officer, Office of the Chief Information Officer.

[FR Doc. 2012-16181 Filed 6-29-12; 8:45 am]

BILLING CODE 4210-67-P